DEPARTMENT OF COMMERCE

Bureau of Industry and Security

15 CFR Part 744

[Docket No. 251106-0170]

RIN 0694-AK07

Revisions to the Entity List

AGENCY: Bureau of Industry and Security, Department of Commerce.

ACTION: Final rule.

SUMMARY: The Bureau of Industry and Security (BIS) is removing one entity from the Entity List under the destination of China, People's Republic of (China). BIS is also removing six aliases associated with a different entity on the Entity List under the destination of China. BIS has determined, based on the review of additional information, that the entities do not pose a significant risk of being or becoming involved in activities that are contrary to the national security or foreign policy interests of the United States.

DATES: This rule is effective November 10, 2025.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, have been involved, are involved, or pose a significant risk of being or becoming involved in activities contrary to the national security or foreign policy interests of the United States, pursuant to § 744.11(b) of the EAR. The EAR imposes additional license requirements on, and limits the availability of, most license exceptions for exports, reexports, and transfers (in-country) when a listed entity is a party to the transaction. The license review policy for each listed entity is identified in the “License Review Policy” column on the Entity List, and the impact on the availability of license exceptions is described in the relevant Federal Register document that added the entity to the Entity List. BIS places entities on the Entity List pursuant to part 744 (Control Policy: End-User and End-Use Based) and part 746 (Embargoes and Other Special Controls) of the EAR.

The End-User Review Committee (ERC), composed of representatives of the Departments of Commerce (Chair), State, War, Energy and, where appropriate, the Treasury, makes all decisions regarding additions to, removals from, or other modifications to the Entity List. The ERC makes all decisions to add an entry to the Entity List by majority vote and makes all decisions to remove or modify an entry by unanimous vote.

Removals From the Entity List

The ERC determined to remove Arrow China Electronics Trading Co., Ltd. and the six aliases under Arrow Electronics (Hong Kong) Co., Ltd. from the Entity List under China, based on information BIS received pursuant to § 744.16 of the EAR regarding the relationships of the aliases under this separate entry to Arrow China Electronics Trading Co., Ltd., along with commitments to enhance export compliance measures of all of these parties, and the review the ERC conducted in accordance with procedures described in supplement no. 5 to part 744 of the EAR.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule. In particular, Section 1753 of ECRA (50 U.S.C. 4812) authorizes the regulation of exports, reexports, and transfers (in-country) of items subject to U.S. jurisdiction. Further, Section 1754(a)(1)-(16) of ECRA (50 U.S.C. 4813(a)(1)-(16)) authorizes, inter alia, establishing and maintaining a list of foreign persons and end uses that are determined to be a threat to the national security and foreign policy of the United States pursuant to the policy set forth in Section 1752(2)(A), and restricting exports, reexports, and in-country transfers of any controlled items to any foreign person or end use so listed; apprising the public of changes in policy, regulations, and procedures; and any other action necessary to carry out ECRA that is not otherwise prohibited by law. Pursuant to Section 1762(a) of ECRA (50 U.S.C. 4821(a)), these changes can be imposed in a final rule without prior notice and comment.

Rulemaking Requirements

1. This rule has been determined to be not significant for purposes of Executive Order 12866. This final rule is not a regulatory action pursuant to E.O. 14192 because it is not a significant rule under E.O. 12866.

2. Notwithstanding any other provision of law, no person is required to respond to or be subject to a penalty for failure to comply with a collection of information, subject to the requirements of the Paperwork Reduction Act of 1995 (PRA) (44 U.S.C. 3501 et seq.), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at: https://www.reginfo.gov/public/do/PRAMain.

3. This rule does not contain policies with federalism implications as that term is defined in Executive Order 13132.

4. Pursuant to Section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act (5 U.S.C. 601, et seq.) are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—CONTROL POLICY: END-USER AND END-USE BASED

1. Revise the authority citation for part 744 to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of November 7, 2024, 89 FR 88867 (November 8, 2024); Notice of August 4, 2025, 90 FR 37999 (August 6, 2025); Notice of September 8, 2025, 90 FR 43903 (September 10, 2025).

2. Supplement no. 4 to part 744 is amended Under CHINA, PEOPLE'S REPUBLIC OF by:

a. Removing the entry for “Arrow China Electronics Trading Co., Ltd.”; and

b. Revising the entry for “Arrow Electronics (Hong Kong) Co., Ltd”.

The revision reads as follows:

Supplement No. 4 to Part 744—Entity List

* * * * *

Country | Entity | License requirement | License review policy | Federal Register citation
* * * * * * *
CHINA, PEOPLE'S REPUBLIC OF | * * * * * *
| Arrow Electronics (Hong Kong) Co., Ltd., 2/F and 3/F, Green 18, Phase 2, Hong Kong Science Park, Hong Kong; and 20/F, Tower 2, Evergreen Plaza, 88 Container Port Road, Kwai Chung, Hong Kong; Lot 204, DD105, Castle Peak Road, Yuen Long, Hong Kong; and Unit 1003, Kerry Cargo Center, 55 Wing Kei Road, Kwai Chung, Hong Kong; and Units 11001-11008E & 11001-110012W, 11th Floor, ATL Logistics Centre B, No. 8 Container Port Road South, Kwai Chung, Hong Kong; Unit 5001-5004W, 5th Floor, ATL Logistics Centre A, No. 8 Container Port Road South, Kwai Chung, Hong Kong; and Unit 5015E-5020E, 5th Floor, ATL Logistics Centre B, No. 8 Container Port Road South, Kwai Chung, Hong Kong. | For all items subject to the EAR. (See § 744.11 of the EAR). | Presumption of denial | 90 FR 48193, 10/9/25. 90 FR [INSERT FR PAGE NUMBER, 10/12/25].
| * * * * * *
* * * * * * *

* * * * *

Julia Khersonsky,
Deputy Assistant Secretary for Strategic Trade.

[FR Doc. 2025-19858 Filed 11-10-25; 8:45 am]

BILLING CODE 3510-33-P